DEPARTMENT OF DEFENSE

Office of the Secretary

Defense Science Board

AGENCY: Department of Defense.

ACTION: Notice of advisory committee meeting date change.

SUMMARY: On November 29, 2002 (67 FR 71144), the Department of Defense announced closed meetings of the Defense Science Board (DSB) Task Force on Unexploded Ordnance. The meeting originally scheduled for March 12-13, 2003, has been moved to March 11-12, 2003. This meeting will be held at SAIC, 4001 N. Fairfax Street, Arlington, VA.

Dated: January 30, 2003.
Patricia L. Toppings,
Alternate OSD Federal Register Liaison Officer, Department of Defense.

[FR Doc. 03-2820 Filed 2-5-03; 8:45 am]

BILLING CODE 5001-08-M